FEDERAL ACCOUNTING STANDARDS ADVISORY BOARD

Notice of Reappointment of FASAB Members

AGENCY: Federal Accounting Standards Advisory Board.

ACTION: Notice.

Board Action: Pursuant to 31 U.S.C. 3511(d), the Federal Advisory Committee Act (Pub. L. 92-463), as amended, and the FASAB Rules Of Procedure, as amended in October 2010, notice is hereby given that Dr. Michael Granof has been reappointed to a five-year term as a member of the Federal Accounting Standards Advisory Board (FASAB) beginning July 1, 2014.

FASAB also announces that Mr. D. Scott Showalter has been reappointed to a five-year term as a member of the Federal Accounting Standards Advisory Board beginning July 1, 2014.

For Further Information Regarding Mr. Granof or Mr. Showalter, Contact: Ms. Wendy M. Payne, Executive Director, 441 G St., NW., Mail Stop 6H20, Washington, DC 20548, or call (202) 512-7350.

Authority: Federal Advisory Committee Act, Pub. L. 92-463.

Dated: August 11, 2014.
Charles Jackson,
Federal Register Liaison Officer.

[FR Doc. 2014-19296 Filed 8-14-14; 8:45 am]

BILLING CODE 1610-02-P